DEPARTMENT OF ENERGY

Federal Energy Regulatory Commission

[Docket No. CP22-486-000]

Texas Eastern Transmission, LP; Notice To Prepare an Environmental Assessment and Revised Schedule for Environmental Review of The Appalachia to Market II and Entriken HP Replacement Project

On July 7, 2022, Texas Eastern, LP (Texas Eastern) filed an application in Docket No. CP22-486-000 requesting a Certificate of Public Convenience and Necessity pursuant to Section 7(c) and Authorization pursuant to Section 7(b) of the Natural Gas Act to construct, operate, and abandon certain natural gas pipeline facilities. The proposed project is known as the Appalachian to Market II and Entriken HP Replacement Project (Project) and is designed to improve system reliability and to allow Texas Eastern to provide up to 55,000 dekatherms per day of firm natural gas transportation service to two local gas distribution companies in New Jersey.

On August 19, 2022, the Federal Energy Regulatory Commission (FERC or Commission) issued a Notice of Intent (NOI) which identified July 14, 2023 as the issuance date for the final Environmental Impact Statement (EIS). However, Commission staff now intends to prepare an Environmental Assessment (EA) for the Project and has therefore revised the planned schedule for the completion of the environmental review.¹

¹ 40 CFR 1501.10 (2020).

The August 19, 2022 NOI announced the opening of a 30-day scoping period which closed on September 19, 2022. Commission staff will consider the information gathered and comments received during scoping in the preparation of the EA; interested stakeholders do not need to resubmit comments previously submitted. Commission staff will make the EA available for public review and inspection, and solicit comments on the document from the public. The Commission will review and consider any future comments received on the EA in its consideration of the Project.

This notice identifies the revised schedule for completion of the EA for Texas Eastern's Project.

Schedule for Environmental Review

Issuance of the EA: February 10, 2023

90-day Federal Authorization Decision Deadline: ² May 11, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, an additional notice will be provided so that the relevant agencies are kept informed of the Project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-486), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 27, 2023.
Kimberly D. Bose,
Secretary.

[FR Doc. 2023-02255 Filed 2-2-23; 8:45 am]

BILLING CODE 6717-01-P